DEPARTMENT OF THE TREASURY

Office of the Comptroller of the Currency

Agency Information Collection Activities: Submission for OMB Review; Comment Request

AGENCY: Office of the Comptroller of the Currency (OCC), Treasury.

ACTION: Notice and request for comment.

SUMMARY: The OCC, as part of its continuing effort to reduce paperwork and respondent burden, invites the general public and other Federal agencies to comment on the renewal of an information collection, as required by the Paperwork Reduction Act of 1995. An agency may not conduct or sponsor, and a respondent is not required to respond to, an information collection unless it displays a currently valid Office of Management and Budget (OMB) control number. The OCC is soliciting comment concerning an information collection titled, “Record and Disclosure Requirements—FRB Regulations B, E, M, Z, CC, and DD.” The OCC also gives notice that it has submitted this information collection to OMB for review and approval.

DATES: Comments must be submitted on or before January 2, 2008.

ADDRESSES: Communications Division, Office of the Comptroller of the Currency, Public Information Room, Mailstop 1-5, Attention: 1557-0176, 250 E Street, SW., Washington, DC 20219. In addition, comments may be sent by fax to (202) 874-4448, or by electronic mail to regs.comments@occ.treas.gov. You may personally inspect and photocopy comments at the OCC's Public Information Room, 250 E Street, SW., Washington, DC. For security reasons, the OCC requires that visitors make an appointment to inspect comments. You may do so by calling (202) 874-5043. Upon arrival, visitors will be required to present valid government-issued photo identification and submit to security screening in order to inspect and photocopy comments.

Additionally, you should send a copy of your comments to OCC Desk Officer, 1557-0176, by mail to U.S. Office of Management and Budget, 725 17th Street, NW., #10235, Washington, DC 20503, or by fax to (202) 395-6974.

FOR FURTHER INFORMATION CONTACT: You may request additional information or a copy of the collection and supporting documentation submitted to OMB by contacting: Mary Gottlieb, (202) 874-5090, Legislative and Regulatory Activities Division, Office of the Comptroller of the Currency, 250 E Street, SW., Washington, DC 20219.

SUPPLEMENTARY INFORMATION: Title: Record and Disclosure Requirements—FRB Regulations B, E, M, Z, CC, and DD.

OMB Control No.: 1557-0176.

Type of Review: Regular review.

Description: This information collection covers the Board of Governors of the Federal Reserve System's (FRB) Regulations (Regs) B, C, E, M, Z, CC, and DD.

Reg B—12 CFR 202—Equal Credit Opportunity

Prohibits lenders from discriminating against credit applicants, establishes guidelines for gathering and evaluating information about personal characteristics in applications for certain dwelling-related loans, requires lenders to provide applicants with copies of appraisal reports in connection with credit transactions, and requires written notification of action taken on a credit application.

Reg C-12 CFR 203—Home Mortgage Disclosure

Requires certain mortgage lenders to report certain home loan application information and to disclose certain data regarding their home mortgage lending.

Reg E-12 CFR 205—Electronic Fund Transfers

Establishes the rights, liabilities, and responsibilities of parties in electronic funds transfers and protects consumers when they use such systems.

Reg M-12 CFR 213—Consumer Leasing

Implements the consumer leasing provisions of the Truth in Lending Act by requiring meaningful disclosure of leasing terms.

Reg Z-12 CFR 226—Truth in Lending

Prescribes uniform methods for computing the cost of credit, for disclosing credit terms and costs, and for resolving errors on certain types of credit accounts.

Reg CC-12 CFR 229—Availability of Funds and Collection of Checks

Governs the availability of funds deposited in checking accounts, the collection and return of checks, and substitute checks.

Reg DD-12 CFR 230—Truth in Savings

Requires depository institutions to provide disclosures to enable consumers to make meaningful comparisons of deposit accounts.

Affected Public: Businesses or other for-profit.

Burden Estimates:

Estimated Number of Respondents: 1,800.

Estimated Number of Responses: 1,800.

Estimated Annual Burden: 3,539,052 hours.

Frequency of Response: On occasion.

Comments: The OCC issued a 60-day Federal Register notice on May 21, 2007. 72 FR 28555. Comments continue to be invited on:

(a) Whether the collection of information is necessary for the proper performance of the functions of the agency, including whether the information has practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or startup costs and costs of operation, maintenance, and purchase of services to provide information.

Dated: November 27, 2007.
Stuart Feldstein,
Assistant Director, Legislative and Regulatory Activities Division, Office of the Comptroller of the Currency.

[FR Doc. 07-5908 Filed 11-30-07; 8:45 am]

BILLING CODE 4810-33-P